DEPARTMENT OF TRANSPORTATION

Pipeline and Hazardous Materials Safety Administration

[Docket No. PHMSA-2020-0056]

Pipeline Safety: Gas and Liquid Advisory Committee Member Nominations

AGENCY: Pipeline and Hazardous Materials Safety Administration (PHMSA), DOT.

ACTION: Notice; request for nominations.

SUMMARY: PHMSA is requesting nominations for individuals to serve on the Gas Pipeline Advisory Committee (GPAC), also known as the Technical Pipeline Safety Standards Committee, and the Liquid Pipeline Advisory Committee (LPAC), also known as the Technical Hazardous Liquid Pipeline Safety Standards Committee. Each committee is composed of 15 members appointed by the Secretary of Transportation (the Secretary).

DATES: Nominations must be received by September 29, 2020. Nominations received after the above due date may be retained for evaluation for future vacancies after all other nominations received by the due date have been evaluated and considered.

ADDRESSES: Nominations should be sent to Tewabe Asebe by email at tewabe.asebe@dot.gov or by regular mail at the Pipeline and Hazardous Materials Safety Administration, 1200 New Jersey Avenue SE, PHP-30: E24-456, Washington, DC 20590.

FOR FURTHER INFORMATION CONTACT: Tewabe Asebe by phone at 202-366-5523 or by email at tewabe.asebe@dot.gov. Interested parties can also access information about the GPAC and LPAC by visiting PHMSA's website at: https://www.phmsa.dot.gov/standards-rulemaking/pipeline/pipeline-advisory-committees.

SUPPLEMENTARY INFORMATION:

I. Advisory Committee Background and Duties

The GPAC and LPAC are statutorily mandated advisory committees that provide recommendations to PHMSA and the Secretary regarding proposed standards for gas and liquid pipelines and facilities. The committees were mandated by 49 United States Code (U.S.C.) § 60115 and established pursuant to the Federal Advisory Committee Act of 1972, as amended (5 U.S.C. App. 2), to review PHMSA's regulatory initiatives and determine their technical feasibility, reasonableness, cost-effectiveness, and practicability. These committees prepare and submit reports to the Secretary regarding the technical feasibility, reasonableness, cost-effectiveness, and practicability of a proposed standard no later than 90 days after receiving the standard and its supporting analyses. The Secretary must publish each report, including any recommended actions and minority views. The Secretary is not bound by a committee's conclusions; however, if the Secretary rejects the conclusions, the Secretary must publish the reasons for the rejection.

II. Membership

Pursuant to 49 U.S.C. 60115, the Secretary is authorized to appoint 15 members to both GPAC and LPAC committees that include (i) five members from departments, agencies, and instrumentalities of the Federal government and the States; (ii) five members from the natural gas or hazardous liquid industry, selected in consultation with industry representatives; and (iii) five members from the public to each committee. Two of the government members of each committee must be State officials. Additionally, each committee must have at least three industry members who currently participate in the active operation of natural gas or hazardous liquid pipelines or pipeline facilities, while at least one industry member must have a background, education, or experience in risk assessment and cost-benefit analysis. Each committee must have two public members who have a background, education, or experience in environmental protection or public safety, while at least one public member must have a background, education, or experience in risk assessment and cost-benefit analysis. At least one public member of each committee may not have any financial interest in the pipeline, petroleum, or natural gas industries. Finally, no public member of a committee may have a significant financial interest in the pipeline, petroleum, or gas industries.

III. Qualifications

Committee members must either have experience with the safety regulations that apply to the transportation of natural gas or hazardous liquids or the operation of a natural gas or hazardous liquid pipeline facility, or they must be technically qualified by training, experience, or knowledge in at least one field of engineering that is applicable to the transportation of gas or hazardous liquids or the operation of a gas or hazardous liquid pipeline facility. Members must also meet the criteria listed under section I of this notice.

Nominees should represent a broad spectrum of people for whom the candidate can advocate. In addition, the committees would benefit from members who have experience working in a consensus-building environment. PHMSA is particularly interested in members from organizations associated with fire safety, pipeline engineering, risk analysis, and emergency response, as well as those from other similar public safety or environmental protection groups. The Secretary will consult with the national organizations that represent State commissioners or utility regulators before selecting any State official. The Secretary will also consult with the national organizations that represent the owners and operators of pipeline facilities before selecting industry members. Nominations are open to all individuals without regard to race, color, religion, sex, sexual orientation, gender identity, national origin, age, mental or physical disability, or marital status. Evaluations will be based on the materials submitted.

III. Terms of Service

• Each member serves for a 3-year term unless they resign, become unable to serve, cease to be qualified to serve, or are removed by the Secretary.

• Members may be reappointed to provide the continuity necessary for the review of technical proposals.

• All members serve at their own expense and receive no salary from the Federal government, although the government may provide travel reimbursement and per diem.

• GPAC and LPAC generally meet in person in Washington, DC, or the surrounding metropolitan area.

• PHMSA will ask potential public candidates to provide detailed information concerning their employment, financial holdings, and research grants and/or contracts so that PHMSA can evaluate any potential conflicts of interest.

IV. Nomination Procedures

• Any interested person may nominate one or more qualified individuals—including themselves—for advisory committee membership.

• Nominations must include a current and complete résumé that lists a business and/or home address, a telephone number, an email address, an education section, professional or business experience, a present occupation, and membership details for any other advisory committees (past or present) for each nominee.

• Each nominee must meet the training, education, or experience requirements listed under section II.

• Each nomination must include one of the following:

○ A short biography of the nominee, including professional and academic credentials for inclusion in membership package.

○ A one-page statement describing how the candidate will benefit the advisory committee, considering current membership and the candidate's unique perspective that will advance the conversation. This statement must also identify a primary and secondary interest to which the candidate's expertise best aligns. Finally, candidates should state their previous experience on Federal advisory committees and/or rulemaking committees (if any), their level of knowledge in their above stakeholder groups, and the size of their constituency they represent or are able to reach.

○ In lieu of a one-page statement, a professional organization's letter of recommendation.

• Nominations must also specify the advisory committee for which the nominee is recommended (GPAC or LPAC).

• Nominations must also acknowledge that the nominee is aware of the nomination unless the individual is self-nominated.

Issued in Washington, DC, on July 27, 2020, under authority delegated in 49 CFR 1.97.
Alan K. Mayberry,
Associate Administrator for Pipeline Safety.

[FR Doc. 2020-16587 Filed 7-30-20; 8:45 am]

BILLING CODE 4910-60-P